DEPARTMENT OF ENERGY

Agency Information Collection Activities: Proposed Collection; Comment Request

AGENCY: Department of Energy.

ACTION: Notice of proposed information collection requests.

SUMMARY: The Department of Energy (DOE) invites comments on the proposed information collection requests, for the Advanced Technology Vehicles Manufacturing Incentive Program, as required by the Paperwork Reduction Act of 1995.

DATES: Interested persons are invited to submit comments on or before July 21, 2009.

ADDRESSES: Comments may be mailed or hand delivered to: Lachlan Seward, Advanced Technology Vehicles Manufacturing Incentive Program, U.S. Department of Energy, 1000 Independence Avenue, SW., Room 4B-196, Washington, DC 20585-0121. Comments may also be submitted electronically to ATVMLoan@hq.doe.gov or through the Federal eRulemaking Portal at http://www.regulations.gov. All submissions must include the OMB Number 1910-5137.

FOR FURTHER INFORMATION CONTACT: Lachlan Seward, Advanced Technology Vehicles Manufacturing Incentive Program, U.S. Department of Energy, 1000 Independence Avenue, SW., Room 4A-157, Washington, DC 20585, 202-586-8146.

SUPPLEMENTARY INFORMATION:

I. Data

This information collection request contains:

1. OMB No.: 1910-5137.

2. Package Title: Advanced Technology Vehicles Manufacturing Incentive Program; Application and Monitoring.

3. Type of Review: New.

4. Purpose: This package requests information from Applicants, Borrowers and grant recipients under DOE's Advanced Technology Vehicles Manufacturing Incentive Program. This information is used to determine eligibility for the program, to award loans and grants pursuant to the program, and to ensure compliance with the program by Borrowers and grant recipients.

5. Respondents: Up to 25 Applicants; up to 15 Borrowers.

6. Estimated Number of Burden Hours: 35,787.5 for Applicants; 10,875 for Borrowers and grant recipients.

7. Reporting Frequency: One time for applicants; quarterly and annually for borrowers and grant recipients.

II. Statutory Authority

Section 136 of the Energy Independence and Security Act of 2007 (“EISA”), enacted on December 19, 2007, Public Law 110-140, authorizes the Secretary of Energy (“Secretary”) to make grants and direct loans to eligible applicants for projects that reequip, expand, or establish manufacturing facilities in the United States to produce qualified advanced technology vehicles, or qualifying components and also for engineering integration costs associated with such projects.

Section 129(a) of the Consolidated Security Disaster Assistance and Continuing Appropriations Act of 2009, (Pub. L. 110-329; “Continuing Resolution, 2009”) appropriated $7,510,000,000 for fiscal year 2009 for “Advanced Technology Vehicle Manufacturing Incentive Program Account” for the cost of direct loans as authorized under section 136(d) of EISA and states that commitments for direct loans using such amount must not exceed $25,000,000,000 in total loan principle. Further, section 129(c) of the Continuing Resolution, 2009 made several substantive amendments to EISA section 136, including that, not later than 60 days after enactment of the Continuing Resolution, 2009, the Secretary will promulgate an interim final rule establishing regulations that the Secretary deems necessary to administer section 136 of EISA, as amended by the Continuing Resolution, 2009.

Pursuant to section 129 of the Continuing Resolution, 2009 and EISA section 136, DOE promulgated an interim final rule on November 12, 2008, setting forth the basic applicant eligibility and project eligibility requirements for both the grant and the loan program. 73 FR 66729 (November 12, 2008). At present, Congress has appropriated funds through the Consolidated Security, Disaster Assistance, and Continuing Appropriations Act, 2009, for only the loan program. As such, DOE will be implementing the loan program only at this time.

III. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Issued in Washington, DC, on May 15, 2009.
Owen F. Barwell,
Deputy Chief Financial Officer.

[FR Doc. E9-11995 Filed 5-21-09; 8:45 am]

BILLING CODE 6450-01-P